ENVIRONMENTAL PROTECTION AGENCY

40 CFR Parts 51 and 52

[EPA-HQ-OAR-2006-0605; FRL-9916-63-OAR]

RIN 2060-AO24

Prevention of Significant Deterioration (PSD) for Particulate Matter Less Than 2.5 Micrometers (PM2.5)—Increments, Significant Impact Levels (SILs) and Significant Monitoring Concentration (SMC)—Notice of Action Denying Petition for Reconsideration and Amended Rulemaking

AGENCY: Environmental Protection Agency (EPA).

ACTION: Action denying petition for reconsideration and amended rulemaking.

SUMMARY: The Environmental Protection Agency (EPA) is providing notice that it has responded to a petition for reconsideration and amended rulemaking of certain provisions of the final rule, “Prevention of Significant Deterioration (PSD) for Particulate Matter Less Than 2.5 Micrometers (PM2.5)—Increments, Significant Impact Levels (SILs) and Significant Monitoring Concentration (SMC),” published on October 20, 2010. The final rule set forth provisions identifying the maximum allowable increases in ambient pollutant concentrations (“increments”) for PM2.5, modifying the definitions for the baseline dates and the baseline area, and adding two screening tools known as SILs and an SMC for PM2.5. On December 23, 2013, the EPA received a petition for reconsideration pursuant to the Clean Air Act (CAA) and for an amended rulemaking pursuant to the Administrative Procedures Act, from the state of North Carolina. The EPA considered the petition for reconsideration and amended rulemaking, along with information contained in the rulemaking docket, in reaching a decision on the petition. The EPA Administrator Gina McCarthy denied the petition for reconsideration and amended rulemaking in a letter to the Attorney General of North Carolina dated August 28, 2014. The letter documents the EPA's reasons for the denial and can be found in the rulemaking docket.

DATES: The EPA's response to this petition was signed on August. 28, 2014. Any petitions for review of the final letter denying the petition for reconsideration and amended rulemaking of certain provisions of the final rule published in the Federal Register on October 20, 2010 (75 FR 64864) must be filed in the Court of Appeal for the District of Columbia Circuit on or before November 17, 2014.

FOR FURTHER INFORMATION CONTACT: Mr. Dan deRoeck, Air Quality Policy Division (C504-03), U.S. Environmental Protection Agency, Research Triangle Park, NC, 27711; telephone number: (919) 541-5593; or email address: deroeck.dan@epa.gov.

SUPPLEMENTARY INFORMATION:

I. How can I get copies of this document and other related information?

This Federal Register document, the petition for reconsideration and amended rulemaking, and the letter denying the petition are available in the docket that the EPA has established for the “Prevention of Significant Deterioration (PSD) for Particulate Matter Less Than 2.5 Micrometers (PM2.5)—Increments, Significant Impact Levels (SILs) and Significant Monitoring Concentration (SMC)” rulemaking under Docket ID No. EPA-HQ-OAR-2006-0605. The table below identifies the petitioner, the date of the petition, the document identification number for the petition, the date of the EPA's response, and the document identification number for the EPA's response.

Petitioner | Date of petition to EPA | Petition: Document No. in docket | Date of EPA response | EPA response: Document No. in docket
State of North Carolina | 12/23/2013 | −0065 | 8/28/2014 | −0066, −0067, −0068

Note that all document numbers listed in the table are in the form of “EPA-HQ-OAR-2006-0605-xxxx.

All documents in the docket are listed on the http://www.regulations.gov Web site. Although listed in the index, some information may not be publicly available, i.e., confidential business information or other information whose disclosure is restricted by statute. Certain other material, such as copyrighted material, is not placed on the Internet and will be publicly available only in hard copy form. Publicly available docket materials are available either electronically through http://www.regulations.gov or in hard copy at the EPA Docket Center, Docket ID No. EPA-HQ-OAR-2006-0605, EPA William Jefferson Clinton West Building, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1742.

In addition to being available in the docket, an electronic copy of this notice of the EPA's decision denying the petition for reconsideration and amended rulemaking and of the EPA's response letter outlining reasons for the denial will also be available on the World Wide Web. Following signature of this document by the Acting Assistant Administrator, Office of Air and Radiation, a copy of this document will be posted on EPA's New Source Review Web site, under Regulations & Standards, at http://www.epa.gov/nsr.

II. Judicial Review

Under CAA section 307(b), judicial review of this final action is available only by filing a petition for review in the U.S. Court of Appeals for the District of Columbia Circuit on or before November 17, 2014.

Dated: September 5, 2014.
Janet G. McCabe,
Acting Assistant Administrator for Air and Radiation.

[FR Doc. 2014-21973 Filed 9-15-14; 8:45 am]

BILLING CODE 6560-50-P